FEDERAL COMMUNICATIONS COMMISSION

47 CFR Parts 27 and 90

[WT Docket No. 96-86; FCC 13-40]

The Development of Operational, Technical and Spectrum Requirements for Meeting Federal, State and Local Public Safety Communications Requirements Through the Year 2010

AGENCY: Federal Communications Commission.

ACTION: Final rule.

SUMMARY: This document adopts minor changes to the rules governing the 700 MHz public safety narrowband spectrum (769-775/799-805 MHz). The rule changes eliminate or update outdated technical requirements and offer public safety licensees additional flexibility to operate their 700 MHz narrowband land mobile radio systems. This document also adopts a corresponding change to the emission limits of commercial transmitters operating in the Guard Band B Block spectrum (775-776/805-806 MHz) and addresses recommendations from the National Coordination Committee (NCC) for changes to the 700 MHz narrowband rules.

DATES: Effective August 11, 2014. The incorporation by reference of certain publications listed in the rule is approved by the Director of the Federal Register as of August 11, 2014.

FOR FURTHER INFORMATION CONTACT: Brian Marenco, Policy and Licensing Division, Public Safety and Homeland Security Bureau, (202) 418-0838.

SUPPLEMENTARY INFORMATION: This is a summary of the Commission's Seventh Report and Order in WT Docket No. 96-86, FCC 13-40, released on April 1, 2013. The document is available for download at http://fjallfoss.fcc.gov/edocs_public/. The complete text of this document is also available for inspection and copying during normal business hours in the FCC Reference Information Center, Portals II, 445 12th Street SW., Room CY-A257, Washington, DC 20554. To request materials in accessible formats for people with disabilities (Braille, large print, electronic files, audio format), send an email to FCC504@fcc.gov or call the Consumer & Governmental Affairs Bureau at 202-418-0530 (voice), 202-418-0432 (TTY).

1. In 1998, the Commission established the initial band plan and service rules for the 24 megahertz of public safety spectrum in the 700 MHz band, which it reallocated from TV channels 60-69 in accordance with the mandate expressed in the Balanced Budget Act of 1997, 63 FR 58645, November 2, 1998. The Commission also divided the 24 megahertz of spectrum into narrowband (6.25 kilohertz channel) and wideband (50 kilohertz channel) segments.

2. In 2005, the Commission adopted the Sixth Report and Order in WT Docket No. 96-86 which revised the Commission's rules regarding adjacent channel power (ACP) emission limits for the 700 MHz public safety band, 70 FR 21663, April 27, 2005. In the accompanying Seventh Notice of Proposed Rule Making (Seventh NPRM), the Commission sought comment and issued tentative conclusions regarding proposals filed by TIA-PRS, Access Spectrum, Nortel/EADS and the NCC to revise various rules governing the 700 MHz public safety narrowband spectrum, including additional proposed revisions to the ACP rules.

3. In 2007, the Commission adopted the 700 MHz Second Report and Order in PS Docket No. 06-229, which revised the band plan and service rules governing both the commercial and public safety portions of the 700 MHz band, 72 FR 48814, August 24, 2007. Among other things, the Commission redesignated 10 megahertz of public safety 700 MHz spectrum (at 763-768/793-798 MHz) for broadband use and established a plan for development of a nationwide, interoperable broadband public safety communications network. In order to accommodate the new public safety broadband allocation, the Commission eliminated the public safety 50 kilohertz wideband channels and consolidated the public safety 6.25 kilohertz narrowband channels into their current locations at 769-775 and 799-805 MHz.

4. In the Seventh Report and Order, the Commission resolves the proposals considered in the Seventh NPRM that affect the consolidated 700 MHz narrowband channels (6.25 kilohertz). The Commission does not address proposals in the Seventh NPRM that related to the former 700 MHz wideband channels (50 kilohertz), because the elimination of wideband channels in the 700 MHz Second Report and Order renders these portions of the Seventh NPRM moot.

5. The Commission, in the Seventh Report and Order, updates certain ACP limits pertaining to transmitters operating on public safety narrowband (769-775/799-805 MHz) or Guard Band B Block (775-776/805-806 MHz) spectrum. The Commission also clarifies its trunking rules, incorporates by reference the most current industry encryption and interoperability standards, removes limitations on secondary fixed operations and permits public safety licensees to transmit their station identification digitally. The Commission also addresses recommendations from the NCC.

Procedural Matters

A. Final Regulatory Flexibility Analysis

6. The Final Regulatory Flexibility Analysis required by section 604 of the Regulatory Flexibility Act, 5 U.S.C. 604, is included in Appendix A of the Seventh Report and Order.

B. Paperwork Reduction Act of 1995 Analysis

7. The actions taken in the Seventh Report and Order in WT Docket No. 96-86 have been analyzed with respect to the Paperwork Reduction Act of 1995, Pub. L. 104-13, and found to impose no new or modified recordkeeping requirements or burdens on the public.

Final Regulatory Flexibility Analysis

8. As required by the Regulatory Flexibility Act (RFA), an Initial Regulatory Flexibility Analysis (IRFA) was incorporated into the Seventh NPRM of this proceeding. The Commission sought written public comment on the IRFA. The RFA requires that an agency prepare a regulatory flexibility analysis for notice-and-comment rulemaking proceedings, unless the agency certifies that “the rule will not, if promulgated, have a significant economic impact on a substantial number of small entities.” The RFA generally defines “small entity” as having the same meaning as the terms “small business,” “small organization,” and “small governmental jurisdiction.” In addition, the term “small business” has the same meaning as the term “small business concern” under the Small Business Act. A “small business concern” is one which: (1) Is independently owned and operated; (2) is not dominant in its field of operation; and (3) satisfies any additional criteria established by the Small Business Administration (SBA). The present Final Regulatory Flexibility Analysis (FRFA) conforms to the RFA.

A. Need for, and Objectives of, the Proposed Rules

9. In the Seventh Report and Order, the Commission adopts changes to its rules covering public safety narrowband spectrum at 769-775 MHz and 799-805 MHz in order to ensure that the technical standards in its rules remain up to date so public safety users can benefit from the latest narrowband technology. The changes the Commission adopts include updating its Adjacent Channel Power (ACP) limits, clarifying its trunking rules and incorporating by reference the most current industry encryption and interoperability standards.

B. Summary of Significant Issues Raised by Public Comments in Response to the IRFA

10. There were no comments filed that specifically addressed the rules and policies proposed in the IRFA.

C. Description and Estimate of the Number of Small Entities to Which the Rules Will Apply

11. The RFA directs agencies to provide a description of and, where feasible, an estimate of the number of small entities that may be affected by the proposed rules, if adopted. The RFA generally defines the term “small entity” as having the same meaning as the terms “small business,” “small organization,” and “small governmental jurisdiction.” In addition, the term “small business” has the same meaning as the term “small business concern” under the Small Business Act. A small business concern is one which: (1) Is independently owned and operated; (2) is not dominant in its field of operation; and (3) satisfies any additional criteria established by the SBA.

12. Public Safety Radio Licensees. As a general matter, Public Safety Radio Licensees include police, fire, local government, forestry conservation, highway maintenance, and emergency medical services. For the purpose of determining whether a Public Safety Radio Licensee is a small business as defined by the SBA, we use the broad census category, Wireless Telecommunications Carriers (except Satellite). This definition provides that a small entity is any such entity employing no more than 1,500 persons. The Commission does not require Public Safety Radio Licensees to disclose information about number of employees, so the Commission does not have information that could be used to determine how many Public Safety Radio licensees constitute small entities under this definition.

13. 700 MHz Guard Band Licenses. In the 700 MHz Guard Band Order, the Commission adopted size standards for “small businesses” and “very small businesses” for purposes of determining their eligibility for special provisions such as bidding credits and installment payments. A small business in this service is an entity that, together with its affiliates and controlling principals, has average gross revenues not exceeding $40 million for the preceding three years. Additionally, a “very small business” is an entity that, together with its affiliates and controlling principals, has average gross revenues that are not more than $15 million for the preceding three years. SBA approval of these definitions is not required. An auction of 52 Major Economic Area (MEA) licenses commenced on September 6, 2000, and closed on September 21, 2000. Of the 104 licenses auctioned, 96 licenses were sold to nine bidders. Five of these bidders were small businesses that won a total of 26 licenses. A second auction of 700 MHz Guard Band licenses commenced on February 13, 2001, and closed on February 21, 2001. All eight of the licenses auctioned were sold to three bidders. One of these bidders was a small business that won a total of two licenses.

14. Radio and Television Broadcasting and Wireless Communications Equipment Manufacturing. The Census Bureau defines this category as follows: “This industry comprises establishments primarily engaged in manufacturing radio and television broadcast and wireless communications equipment. Examples of products made by these establishments are: Transmitting and receiving antennas, cable television equipment, GPS equipment, pagers, cellular phones, mobile communications equipment, and radio and television studio and broadcasting equipment.” The SBA has developed a small business size standard for Radio and Television Broadcasting and Wireless Communications Equipment Manufacturing, which is: All such firms having 750 or fewer employees. According to Census Bureau data for 2007, there were a total of 939 establishments in this category that operated for part or all of the entire year. According to Census bureau data for 2007, there were a total of 919 firms in this category that operated for the entire year. Of this total, 771 had less than 100 employees and 148 had more than 100 employees. Thus, under that size standard, the majority of firms can be considered small.

D. Description of Projected Reporting, Recordkeeping and Other Compliance Requirements

15. This Seventh Report and Order does not adopt a rule that will entail reporting, recordkeeping, and/or third-party consultation.

E. Steps Taken To Minimize Significant Economic Impact on Small Entities and Significant Alternatives Considered

16. The RFA requires an agency to describe any significant alternatives that it has considered in reaching its approach, which may include the following four alternatives (among others): (1) The establishment of differing compliance or reporting requirements or timetables that take into account the resources available to small entities; (2) the clarification, consolidation, or simplification of compliance or reporting requirements under the rule for small entities; (3) the use of performance, rather than design, standards; and (4) an exemption from coverage of the rule, or any part thereof, for small entities.

17. In formulating rule changes in the Seventh Report and Order, the Commission strived to ensure Public Safety Radio Licensees benefit from innovative new services. In each case cited below, the Commission considered the alternative of leaving the rule unchanged but concluded the rule changes it adopted would reduce economic burdens and benefit Public Safety Radio Licensees, 700 MHz Guard Band Licenses and/or Wireless Communications Equipment Manufacturers.

18. Adjacent Channel Power. The rule changes the Commission adopts regarding Adjacent Channel Power (ACP) will result in cost savings to manufacturers by reducing the complexity of transmitters with a consequent savings to Public Safety Radio Licensees and 700 MHz Guard Band Licenses while at the same time maintaining the overall level of ACP protection necessary to guard against interference.

19. Secondary Fixed Operations and Digital Station Identification. The rule changes the Commission adopts regarding secondary fixed operations and digital station identification will provide Public Safety Radio Licensees increased capability to meet their communications needs. Absent these rule changes, Public Safety Radio Licensees would endure increased regulatory burdens for no practical purpose.

20. Trunking Requirement. We clarify our trunking requirements to eliminate ambiguity in order to ensure Public Safety Radio Licensees benefit from the increased efficiency resulting from trunked operations. Absent this rule clarification, Public Safety Radio Licensees would be unable to reap the benefits of trunking on State License channels.

21. Encryption and Narrowband Interoperability Standards. We update our rules to reflect the most current industry standards for encryption and interoperability. To ensure a minimum impact on Public Safety Radio Licensees and Wireless Communications Equipment Manufacturers we grandfather equipment certified under the old standards, thus obviating the need for previously approved equipment to be recertified.

F. Federal Rules That May Duplicate, Overlap, or Conflict With the Proposed Rules

22. None.

G. Report to Congress

23. The Commission will send a copy of the Seventh Report and Order, including the FRFA, in a report to be sent to Congress pursuant to the Small Business Regulatory Enforcement Fairness Act of 1996. In addition, the Commission will send a copy of the Seventh Report and Order, including this FRFA, to the Chief Counsel for Advocacy of the Small Business Administration.

Ordering Clauses

24. Accordingly, it is ordered that, pursuant to sections 1, 4(i), 303, 316, 332 and 337 of the Communications Act of 1934, as amended, 47 U.S.C. 151, 154(i), 303, 316, 332 and 337, the Seventh Report and Order is hereby adopted.

25. It is further ordered that the amendments of the Commission's rules as set forth in Appendix C of the Seventh Report and Order are adopted, effective August 11, 2014.

26. It is further ordered that the Commission shall send a copy of the Seventh Report and Order in a report to be sent to Congress and the General Accounting Office pursuant to the Congressional Review Act, 5 U.S.C. 801(a)(1)(A).

List of Subjects

47 CFR Part 27

Radio.

47 CFR Part 90

Incorporation by reference, Radio.

Federal Communications Commission.
Marlene H. Dortch,
Secretary.

For the reasons discussed in the preamble, the Federal Communications Commission amends 47 CFR parts 27 and 90 as follows:

PART 27—MISCELLANEOUS WIRELESS COMMUNICATIONS SERVICES

1. The authority citation for part 90 continues to read as follows:

Authority: 47 U.S.C. 154, 301, 302, 303, 307, 309, 332, 336, and 337 unless otherwise noted.

2. Section 27.53 is amended by:

a. Revising the last entry of the tables for “6.25 kHz Base Transmitter ACP Requirements”, “12.5 kHz Base Transmitter ACP Requirements”, “25 kHz Base Transmitter ACP Requirements”, and “150 kHz Base Transmitter ACP Requirements” below paragraph (e)(6).

b. Adding a footnote 1 to the tables for “6.25 kHz Base Transmitter ACP Requirements”, “12.5 kHz Base Transmitter ACP Requirements”, “25 kHz Base Transmitter ACP Requirements”, and “150 kHz Base Transmitter ACP Requirements” below paragraph (e)(6).

The revisions and additions read as follows:

§ 27.53 Emission limits.

* * * * *

(e) * * *

(6) * * *

* * * * *

6.25 kHz Base Transmitter ACP Requirements
Offset from center frequency (kHz) | Measurement bandwidth (kHz) | Maximum ACP (dBc)
* * * * * * *
In the paired receive band | 30 (s) | ¹−85
¹ Although we permit individual base transmitters to radiate a maximum ACP of −85 dBc in the paired receive band, licensees deploying these transmitters may not exceed an ACP of −100 dBc in the paired receive band when measured at either the transmitting antenna input port or the output of the transmitter combining network. Consequently, licensees deploying these transmitters may need to use external filters to comply with the more restrictive ACP limit.

12.5 kHz Base Transmitter ACP Requirements
Offset from center frequency (kHz) | Measurement bandwidth (kHz) | Maximum ACP (dBc)
* * * * * * *
In the paired receive band | 30 (s) | ¹−85
¹ Although we permit individual base transmitters to radiate a maximum ACP of −85 dBc in the paired receive band, licensees deploying these transmitters may not exceed an ACP of −100 dBc in the paired receive band when measured at either the transmitting antenna input port or the output of the transmitter combining network. Consequently, licensees deploying these transmitters may need to use external filters to comply with the more restrictive ACP limit.

25 kHz Base Transmitter ACP Requirements
Offset from center frequency (kHz) | Measurement bandwidth (kHz) | Maximum ACP (dBc)
* * * * * * *
In the paired receive band | 30 (s) | ¹−85
¹ Although we permit individual base transmitters to radiate a maximum ACP of −85 dBc in the paired receive band, licensees deploying these transmitters may not exceed an ACP of −100 dBc in the paired receive band when measured at either the transmitting antenna input port or the output of the transmitter combining network. Consequently, licensees deploying these transmitters may need to use external filters to comply with the more restrictive ACP limit.

150 kHz Base Transmitter ACP Requirements
Offset from center frequency (kHz) | Measurement bandwidth (kHz) | Maximum ACP (dBc)
* * * * * * *
In the receive band | 30(s) | ¹−85
¹ Although we permit individual base transmitters to radiate a maximum ACP of −85 dBc in the paired receive band, licensees deploying these transmitters may not exceed an ACP of −100 dBc in the paired receive band when measured at either the transmitting antenna input port or the output of the transmitter combining network. Consequently, licensees deploying these transmitters may need to use external filters to comply with the more restrictive ACP limit.

* * * * *

PART 90—PRIVATE LAND MOBILE RADIO SERVICES

3. The authority citation for part 90 continues to read as follows:

Authority: Sections 4(i), 11, 303(g), 303(r), and 332(c)(7) of the Communications Act of 1934, as amended, 47 U.S.C. 154(i), 161, 303(g), 303(r), and 332(c)(7), and Title VI of the Middle Class Tax Relief and Job Creation Act of 2012, Pub. L. 112-96, 126 Stat. 156.

4. Section 90.235 is amended by revising paragraph (l) to read as follows:

§ 90.235 Secondary fixed signaling operations.

* * * * *

(l) Secondary fixed signaling operations conducted in accordance with the provisions of §§ 90.317(a), 90.557 and 90.637 are exempt from the foregoing provisions of this section.

5. Section 90.527 is amended by revising paragraph (b) to read as follows:

§ 90.527 Regional plan requirements.

* * * * *

(b) Modification of regional plans. Regional plans may be modified by submitting a written request, signed by the regional planning committee, to the Chief, Public Safety and Homeland Security Bureau. The request must contain the full text of the modification. Modifications are considered either major or minor. Regional planning committees must certify that successful coordination with all adjacent regions has occurred for major modifications and that all such regions concur with the major modification. Unless requested otherwise by the regional planning committee, the Bureau will only place major modifications on public notice for comment.

(1) Except as noted below, modifications changing the way channels are allocated, allotted or coordinated are considered major modifications.

(2) Modifications changing how channels are allotted are considered minor modifications only if:

(i) The proposed channel change or channel addition involves a facility located more than seventy miles from the adjacent region border;

(ii) The co-channel or adjacent channel interference contour of the facility changing or adding the channel does not intersect the border of an adjacent region, or

(iii) The proposed channel change or channel addition has been coordinated in writing with any affected adjacent region.

(3) Changes in membership or leadership of regional planning committees are considered minor modifications.

6. Section 90.537 is revised to read as follows:

§ 90.537 Trunking requirement.

(a) General use and State License channels. All systems using six or more narrowband channels in the 769-775 MHz and 799-805 MHz frequency bands must be trunked systems, except for those described in paragraph (b) of this section.

(b) Interoperability and low power channels. Trunking is permitted only on Interoperability channels specified in § 90.531(b)(1)(iii). Trunked use must be strictly on a secondary, non-interference basis to conventional operations. The licensee must monitor and immediately release these channels when they are needed for interoperability purposes. All systems using narrowband low power channels listed in § 90.531(b)(3) and (4) are exempt from the trunking requirements described in paragraph (a) of this section.

7. Section 90.543 is amended by:

a. Revising the last entry of the tables for “6.25 kHz Base Transmitter ACP Requirements”, “12.5 kHz Base Transmitter ACP Requirements”, and “25 kHz Base Transmitter ACP Requirements” below paragraph (a).

b. Adding a footnote 1 to the tables for “6.25 kHz Base Transmitter ACP Requirements”, “12.5 kHz Base Transmitter ACP Requirements”, and “25 kHz Base Transmitter ACP Requirements” below paragraph (a).

The revisions and additions read as follows:

§ 90.543 Emission limitations.

* * * * *

(a) * * *

* * * * *

6.25 kHz Base Transmitter ACP Requirements
Offset from center frequency (kHz) | Measurement bandwidth (kHz) | Maximum ACP (dBc)
* * * * * * *
In the paired receive band | 30 (s) | ¹ -85
¹ Although we permit individual base transmitters to radiate a maximum ACP of -85 dBc in the paired receive band, licensees deploying these transmitters may not exceed an ACP of -100 dBc in the paired receive band when measured at either the transmitting antenna input port or the output of the transmitter combining network. Consequently, licensees deploying these transmitters may need to use external filters to comply with the more restrictive ACP limit.

12.5 kHz Base Transmitter ACP Requirements
Offset from center frequency (kHz) | Measurement bandwidth (kHz) | Maximum ACP (dBc)
* * * * * * *
In the paired receive band | 30 (s) | ¹ -85
¹ Although we permit individual base transmitters to radiate a maximum ACP of -85 dBc in the paired receive band, licensees deploying these transmitters may not exceed an ACP of -100 dBc in the paired receive band when measured at either the transmitting antenna input port or the output of the transmitter combining network. Consequently, licensees deploying these transmitters may need to use external filters to comply with the more restrictive ACP limit.

25 kHz Base Transmitter ACP Requirements
Offset from center frequency (kHz) | Measurement bandwidth (kHz) | Maximum ACP (dBc)
* * * * * * *
In the paired receive band | 30 (s) | ¹ -85
¹ Although we permit individual base transmitters to radiate a maximum ACP of -85 dBc in the paired receive band, licensees deploying these transmitters may not exceed an ACP of -100 dBc in the paired receive band when measured at either the transmitting antenna input port or the output of the transmitter combining network. Consequently, licensees deploying these transmitters may need to use external filters to comply with the more restrictive ACP limit.

* * * * *

8. Section 90.548 is revised to read as follows:

§ 90.548 Interoperability Technical Standards.

(a) Transmitters designed after August 11, 2014 to operate on the narrowband interoperability achannels in the 769-775 and 799-805 MHz band (see § 90.531) shall conform to the following technical standards (transmitters certified prior to this date are grandfathered):

(1) Transmitters designed for voice operation shall include a 12.5 kilohertz bandwidth mode of operation conforming to the following standards: ANSI/TIA-102.BAAA-A-2003 and ANSI/TIA-102.BABA-2003.

(2) Transmitters designed for data transmission shall include a 12.5 kilohertz bandwidth mode of operation conforming to the following standards: ANSI/TIA-102.BAEA-B-2012, ANSI/TIA-102.BAAA-A-2003, ANSI/TIA-102.BAEB-A-2005, and ANSI/TIA-102.BAEE-B-2010.

(b) The Director of the Federal Register approves these incorporations by reference in accordance with 5 U.S.C. 552(a) and 1 CFR part 51. Material incorporated by reference may be inspected at the Federal Communications Commission, 445 12th Street SW., Washington, DC (Reference Information Center) [202-418-0270] or at the National Archives and Records Administration (NARA). For information on the availability of this material at NARA, call 202-741-6030, or go to: http://www.archives.gov/federal_register/code_of_federal_regulations/ibr_locations.html.

(1) TIA/EIA, 2500 Wilson Boulevard, Arlington, VA 22201 703-907-7974. These standards are also available from Global Engineering Documents, 15 Inverness Way East, Englewood, CO 80112; or the American National Standards Institute, 25 West 43rd Street, Fourth Floor, New York, NY 10036, www.ansi.org.

(i) ANSI/TIA-102.BAAA-A-2003, Project 25 FDMA-Common Air Interface, approved September 2003.

(ii) ANSI/TIA-102.BABA-2003, Project 25 Vocoder Description, approved December 2003.

(iii) ANSI/TIA-102.BAEA-B-2012, Project 25 Data Overview—New Technology Standards Project—Digital Radio Technical Standards, approved June 2012.

(iv) ANSI/TIA-102.BAEB-A-2005, Project 25 Packet Data Specification—New Technology Standards Project—Digital Radio Technical Standards, approved March 2005.

(v) ANSI/TIA-102.BAEE-B-2010, Project 25 Radio Management Protocols—New Technology Standards Project—Digital Radio Technical Standards, approved May 2010.

(2) [Reserved]

9. Section 90.553 is amended by revising paragraph (b) to read as follows:

§ 90.553 Encryption.

* * * * *

(b) If encryption is employed, then transmitters manufactured after August 11, 2014 must use the Advanced Encryption Standard (AES) specified in ANSI/TIA-102.AAAD-A: Project 25 Digital Land Mobile Radio-Block Encryption Protocol, approved August 20, 2009 Until 2030, manufacturers may also include the Digital Encryption Standard (DES) or Triple Data Encryption Algorithm (TDEA), in addition to but not in place of AES, for compatibility with legacy radios that lack AES capability. The Director of the Federal Register approves this incorporation by reference in accordance with 5 U.S.C. 552(a) and 1 CFR part 51. The standard can also be purchased from TIA/EIA, 2500 Wilson Boulevard, Arlington, VA 22201 703-907-7974; Global Engineering Documents, 15 Inverness Way East, Englewood, CO 80112; or the American National Standards Institute, 25 West 43rd Street, Fourth Floor, New York, NY 10036, www.ansi.org. Material incorporated by reference may be inspected at the Federal Communications Commission, 445 12th Street SW., Washington, DC (Reference Information Center) 202-418-0270 or at the National Archives and Records Administration (NARA). For information on the availability of this material at NARA, call 202-741-6030, or go to: http://www.archives.gov/federal_register/code_of_federal_regulations/ibr_locations.html.

* * * * *

10. Section 90.557 is added to subpart R to read as follows:

§ 90.557 Secondary fixed signaling operations.

Trunked and conventional 700 MHz narrowband systems may conduct fixed ancillary signaling and data transmissions subject to the following requirements:

(a) Operations are permitted only on:

(1) Narrowband State License channels specified in § 90.531(b)(5), subject to the discretion of the relevant State licensee; and

(2) Narrowband General Use channels specified in § 90.531(b)(6), subject to the discretion of the regional planning committee.

(b) All operations must be on a secondary, non-interference basis to the primary mobile operation of any other licensee.

(c) The output power at the remote site must not exceed 30 watts.

(d) Automatic means must be provided to deactivate the remote transmitter in the event the carrier remains on for a period in excess of three minutes.

(e) Operational fixed stations authorized pursuant to this section are exempt from the requirements of §§ 90.425, 90.429, and 90.559.

(f) Any operations undertaken in a shared use environment must be conducted pursuant to an agreement between the licensee and each participant, as set forth in § 90.179.

11. Section 90.559 is added to subpart R to read as follows:

§ 90.559 Station Identification.

(a) Conventional systems of communication shall be identified in accordance with existing regulations governing such matters.

(b) Trunked systems of communication, except as noted in paragraph (c) of this section, shall be identified through the use of an automatic device which transmits the call sign of the base station facility at 30 minute intervals. Such station identification shall be made on the lowest frequency in the base station trunk group assigned the licensee. Should this frequency be in use at the time station identification is required, such identification may be made at the termination of the communication in progress on this frequency. Identification may be made by voice or International Morse Code. When the call sign is transmitted in International Morse Code, it must be at a rate of between 15 to 20 words per minute and by means of tone modulation of the transmitter, the tone frequency being between 800 and 1000 hertz.

(c) Stations operating in the 769-775/799-805 MHz band that are licensed on an exclusive basis, and normally employ digital signals for the transmission of data, text, control codes, or digitized voice may also be identified by digital transmission of the call sign. A licensee that identifies its station in this manner must provide the Commission, upon its request, information sufficient to decode the digital transmission and ascertain the call sign transmitted.

[FR Doc. 2014-16042 Filed 7-9-14; 8:45 am]

BILLING CODE 6712-01-P